SMALL BUSINESS ADMINISTRATION

[Declaration of Disaster #3452]

State of Louisiana

As a result of the President's major disaster declaration on October 3, 2002, I find that Acadia, Ascension, Assumption, Avoyelles, Beauregard, Calcasieu, Cameron, Evangeline, Iberia, Iberville, Jefferson Davis, Jefferson, Lafayette, Lafourche, Livingston, Orleans, Plaquemines, St. Bernard, St. Charles, St James, St. John the Baptist, St. Landry, St. Martin, St. Mary, St. Tammany, Tangipahoa, Terrebonne and Vermillion Parishes in the State of Louisiana constitute a disaster area due to damages caused by Hurricane Lili occurring on October 1, 2002, and continuing. Applications for loans for physical damage as a result of this disaster may be filed until the close of business on December 2, 2002 and for economic injury until the close of business on July 3, 2003 at the address listed below or other locally announced locations:

Small Business Administration, Disaster Area 3 Office, 4400 Amon Carter Blvd., Suite 102, Fort Worth, TX 76155.

In addition, applications for economic injury loans from small businesses located in the following contiguous parishes and counties may be filed until the specified date at the above location: Allen, Catahoula, Concordia, East Baton Rouge, East Feliciana, La Salle, Pointe Coupee, Rapides, St. Helena, Vernon, Washington, West Baton Rouge and West Feliciana in the State of Louisiana; Amite, Hancock, Pearl River and Pike counties in the State of Mississippi; and Jefferson, Newton and Orange counties in the State of Texas.

The interest rates are:

| Percent
For Physical Damage:
Homeowners with credit available elsewhere | 6.625
Homeowners without credit available elsewhere | 3.312
Businesses with credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 345208. For economic injury the number is 9R9100 for Louisiana; 9R9200 for Mississippi; and 9R9300 for Texas.

(Catalog of Federal Domestic Assistance Program Nos. 59002 and 59008)
Dated: October 4, 2002.
Herbert L. Mitchell,
Associate Administrator for Disaster Assistance.

[FR Doc. 02-26073 Filed 10-11-02; 8:45 am]

BILLING CODE 8025-01-P